DEPARTMENT OF COMMERCE

Foreign-Trade Zones Board

[B-88-2012]

Foreign-Trade Zone 84—Houston, TX; Notification of Proposed Production Activity; Mitsubishi Caterpillar Forklift America Inc.; (Forklift Trucks); Houston, TX

The Port of Houston Authority, grantee of FTZ 84, submitted a notification of proposed production activity on behalf of Mitsubishi Caterpillar Forklift America Inc. (MCFA), located in Houston, Texas. The notification conforming to the requirements of the regulations of the Foreign-Trade Zones Board (15 CFR 400.22) was received on November 2, 2012.

The MCFA facilities are located at: 1722, 1730, 1810, 1812 Brittmoore Road; and, 2007, 2011, 2015, 2021, 2121 West Sam Houston Parkway North; Houston (Harris County), Texas. A separate application for subzone status at the MCFA facilities is planned and will be processed under Section 400.31 of the Board's regulations. The facilities are used for the production of forklift trucks (Class I through Class V) powered by gasoline, propane or electric motors. Production under FTZ procedures could exempt MCFA from customs duty payments on the foreign status components and materials used in export production. On its domestic sales, MCFA would be able to choose the duty rate during customs entry procedures that applies to forklift trucks (free) for the foreign status inputs noted below. Customs duties also could possibly be deferred or reduced on foreign status production equipment.

Components and materials sourced from abroad include: oils and greases, brake fluids, adhesives, silicones, plastic tubes/pipes/hoses/fittings, articles of plastic (sheeting, cases, boxes, stoppers, lid, handles, knobs, fasteners, gaskets, washers, o-rings), sacks, bags, containers, builders ware, clips, belts, articles of rubber (seals, o-rings, gaskets, mats, knobs, caps, lids, dampeners, tubes, pipes, hoses, tires, rods, containers, handles, belts), pallets, wood packing boxes, cases, other printed materials, brake linings, labels, adhesive tapes, safety glass, mirrors, parts of fiberglass, windshields, bars, pipe fittings, pipes and tubes of iron/steel/copper, chains, fasteners, steel cables and rods, articles of copper, articles of aluminum, locks and keys, articles of base metal, flanges, wrenches, hand tools, flexible tubing, engines, parts of engines, water boilers, control panels, control centers, switchgear assemblies, distribution boards, printed circuits, torque converters, parts of forklift trucks, electric motors, hydraulic pumps, crankshafts, camshafts, crank regulators, terminals, insulators, transmissions/speed changers and related parts, axles, CV joints, commutators, gears, shafts, relays, flywheels, pulleys, rubber tubes/pipes, harnesses, catalytic converters, filters, heat exchangers, hydraulic cylinders/fluid power components, accumulators, taps/cocks, valves and related parts, fuel injection pumps, flow meters, electromagnetic couplings/clutches, brake parts, wire, electric conductors/converters, exhaust parts, steering components, pumps, parts of pumps/compressors, turbochargers, fans and related parts, air-conditioners, filters, starters, bearings and related parts, floor coverings, electrical connectors and related assemblies, wiring harnesses, fasteners, couplings/u-joints, gaskets, generators, alternators, carbon brushes, electric motors, transformers, rotors, stators, power supplies, converters, spark plugs, batteries, ignition parts, coils, distributors, starters, relays, switches, horns, capacitors, resistors, fuses, diodes, transistors, thyristors, semiconductor devices, controllers, circuit breakers and protectors, conductors, junction boxes, lamps/lighting equipment, sound signaling devices, thermostats, seats and related parts, seat belts, windshield wipers, cameras, suspension parts, radiators, road wheels, measuring/metering instruments, speedometers, tachometers, shock absorbers, and optical lenses (duty rate range: free—12.5%, 36¢ each/8¢ per jewel + 5.6%). The request indicates that all foreign steel products subject to an antidumping/countervailing duty order will be admitted in domestic (duty-paid) status (19 CFR 146.43).

Public comment is invited from interested parties. Submissions shall be addressed to the Board's Executive Secretary at the address below. The closing period for their receipt is January 22, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: December 7, 2012.
Andrew McGilvray,
Executive Secretary.

[FR Doc. 2012-30133 Filed 12-12-12; 8:45 am]

BILLING CODE P